DEPARTMENT OF DEFENSE

Department of the Air Force

U.S. Air Force Scientific Advisory Board; Notice of Meeting

AGENCY: Air Force Scientific Advisory Board, Department of the Air Force, DOD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the United States Air Force (USAF) Scientific Advisory Board (SAB) Spring Board meeting will take place on 21 April 2015 at the 552nd Air Control Wing Auditorium, located in building 282, Tinker Air Force Base, Oklahoma City 73145. The meeting will occur from 7:30 a.m.-11:30 a.m. on Tuesday, 21 April 2015. The session that will be open to the general public will be held from 7:30 a.m. to 8:00 a.m. on 21 April 2015. The purpose of this Air Force Scientific Advisory Board quarterly meeting is to conduct a mid-term review of FY15 SAB studies, which consist of: (1) Cyber Vulnerabilities of Embedded Systems on Air And Space Systems, (2) Enhanced Utility of Unmanned Air Vehicles In Contested and Denied Environments, (3) Utility of Quantum Systems for the Air Force. In accordance with 5 U.S.C. 552b, as amended, and 41 CFR 102-3.155, a number of sessions of the USAF SAB Spring Board meeting will be closed to the public because they will discuss classified information and matters covered by section 5 U.S.C. 552b(c)(1).

Any member of the public that wishes to attend this meeting or provide input to the USAF SAB must contact the Designated Federal Officer at the phone number or email address listed below at least five working days prior to the meeting date. Please ensure that you submit your written statement in accordance with 41 CFR 102-3.140(c) and section 10(a)(3) of the Federal Advisory Committee Act. Statements being submitted in response to the agenda mentioned in this notice must be received by the Designated Federal Officer at the address listed below at least five calendar days prior to the meeting commencement date. The Designated Federal Officer will review all timely submissions and respond to them prior to the start of the meeting identified in this noice. Written statements received after this date may not be considered by the USAF SAB until the next scheduled meeting.

FOR FURTHER INFORMATION CONTACT: The USAF SAB meeting organizer, Major Mike Rigoni at, michael.j.rigoni.mil@mail.mil or 240-612-5504, United States Air Force Scientific Advisory Board, 1500 West Perimeter Road, Ste. #3300, Joint Base Andrews, MD 20762.

Henry Williams Jr.,
Acting Air Force Federal Register Liaison Officer, DAF.

[FR Doc. 2015-05616 Filed 3-11-15; 8:45 am]

BILLING CODE 5001-10-P